ENVIRONMENTAL PROTECTION AGENCY

[OPP-2003-0183; FRL-7315-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by Sumitomo Chemical Company, Limited and Bayer Environmental Science to voluntarily cancel the registrations for all of their products containing 4-chloro-alpha-(1-methylethyl)benzeneacetic acid, cyano(3-phenoxyphenyl)methyl ester (fenvalerate). At the close of the comment period, EPA intends to issue an order granting these cancellation requests, unless the Agency receives substantive comments within the comment period that would merit its further review of these requests, or the requests have been withdrawn.

DATES: Comments must be received by August 11, 2003. Unless the Agency receives any substantive comments within the comment period that would merit its further review of these requests, or the requests have been withdrawn by August 11, 2003, EPA intends to issue orders canceling these registrations at the close of the comment period.

ADDRESSES: Comments may be submitted electronically, by mail, or through hand delivery/courier. Please follow the detailed instructions for each method as provided in Unit I.C. of the SUPPLEMENTARY INFORMATION. To ensure proper receipt by EPA, it is imperative that you identify docket ID number OPP-2003-0183 in the subject line on the first page of your response.

FOR FURTHER INFORMATION CONTACT: Wilhelmena Livingston, Special Review and Reregistration Division (7508C), Office of Pesticide Programs, Environmental Protection Agency, 1200 Pennsylvania Ave., NW., Washington, DC 20460-0001; telephone number: (703) 308-8025, e-mail address: livingston.wilhelmena@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0183. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/. You may use EPA docket to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Comments?

You may submit comments through the mail, in person, or electronically. To ensure proper receipt by EPA, it is imperative that you identify docket ID number OPP-2003-0183 in the subject line on the first page of your response.

1. By mail. Submit your comments to: Public Information and Records Integrity Branch (PIRIB), Information Resources and Services Division (7502C), Office of Pesticide Programs (OPP), Environmental Protection Agency, 1200 Pennsylvania Ave., NW., Washington, DC 20460-0001.

2. In person or by courier. Deliver your comments to Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as describe above. Do not submit any information electronically that you consider to be CBI. Avoid the use of special characters and any form of encryption. Electronic submissions will be accepted in WordPerfect 6.1/8.0 or ASCII file format. All comments in electronic form must be identified by docket ID number OPP-2003-0183. Electronic comments also may be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy that does not contain the information claimed as CBI must be submitted for inclusion in the public version of the official record. Information not marked confidential will be included in the public version of the official record without prior notice. If you have any questions about CBI or the procedures for claiming CBI, please consult the person listed under for FOR FURTHER INFORMATION CONTACT.

II. What Action is the Agency Taking?

This notice announces receipt by the Agency of requests from Sumitomo Chemical Company, Limited and Bayer Environmental Science to cancel the registrations of three pesticide products registered under section 3 of the Federal Insecticide, Fungicide, and Rodenticide Act (FIFRA). These three registrations constitute all registrations held by Sumitomo Chemical Company, Limited and Bayer Environmental Science of products containing 4-chloro-alpha-(1-methylethyl)benzeneacetic acid, cyano(3-phenoxyphenyl)methyl ester (fenvalerate). These requests are submitted pursuant to section 6(f) of FIFRA.

Fenvalerate is a synthetic pyrethroid insecticide which is used to control insects and related organisms, molluscs, fouling organisms and miscellaneous invertebrates on agricultural, pet care, domestic home and garden (domestic), and commercial/industrial/food and non-food/mosquito abatement (commercial) sites. On April 10, 2003, Sumitomo Chemical Company, Limited and on April 22, 2003, Bayer Environmental Science requested that EPA waive the 180-day period that typically has been allowed before requests for voluntary cancellation are approved or denied.

These registrations are listed in sequence by registration number in Table 1 of this unit:

Table 1.—Registrations with Pending Requests for Cancellation
Registration No. | Product Name | Chemical Name
432-766 | Technical Fenvalerate Insecticide | Fenvalerate
432-767 | Gold Crest Tribute Termiticide/Insecticide | Fenvalerate
10308-13 | Technical Sumicidin Insecticide | Fenvalerate

At the close of the comment period, EPA intends to issue an order granting these cancellation requests, unless the Agency receives any substantive comments within the comment period that would merit its further review of these requests, or the requests have been withdrawn. Users of these pesticides or anyone else desiring the retention of a registration should send in their comments to EPA. In addition, they may wish to contact the applicable registrant directly.

Table 2 of this unit includes the names and addresses of record for all registrants of the products in Table 1 of this unit, in sequence by EPA company number:

Table 2.— Registrants Requesting Voluntary Cancellation
EPA Company No. | Company Name and Address
432 | Bayer Environmental Science, 95 Chestnut Ridge Road, Montvale, NJ 07645
10308 | Sumitomo Chemical Company, Limited, 5-33 Kitahama 4-Chome, Chuo-ku Osaka, 541, Japan

III. What is the Agency's Authority for Taking this Action?

Section 6(f)(1) of FIFRA provides that a registrant of a pesticide product may at any time request that any of its pesticide registrations be canceled. FIFRA further provides that, before acting on the request, EPA must publish a notice of receipt of any such request in the Federal Register and provide a 30-day period in which the public may comment before the Agency may act on the request for voluntary cancellation. In the case of minor agricultural uses, section 6(f)(1)(c) of FIFRA provides for a 180-day comment period under certain circumstances. In this case, Bayer Environmental Science, and Sumitomo Chemical Company, Limited have requested that EPA waive the 180-day comment period. Accordingly, pursuant to section 6(f)(1)(c)(ii) of FIFRA. EPA is waiving the 180-day comment period and will provide interested parties 30 days to comment on the action.

IV. Procedures for Withdrawal of Request

Registrants who choose to withdraw a request for cancellation must submit such withdrawal in writing to the person listed under FOR FURTHER INFORMATION CONTACT, postmarked before August 11, 2003. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements. Any person, including the registrant, who wishes to support the continued registration of fenvalerate, must fulfil all outstanding data gaps. In addition, EPA must find that fenvalerate is eligible for reregistration.

V. Provisions for Disposition of Existing Stocks

The effective date of cancellation will be the date of the cancellation order. The orders effecting these requested cancellations will generally permit a registrant to sell or distribute existing stocks for 1 year after the date the cancellation is requested. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders. In this case, the Agency does not see a need to deviate from the Existing Stocks Policy. Unless the Agency receives substantive comments during the comment period that would merit its further review of this matter, the Agency intends to permit the registrants to sell and distribute the existing stocks for 1 year after the effective date of the cancellation. Although in its original voluntary cancellation letter, Bayer requested 18 months to address any remaining stocks, in subsequent communication with the Agency, Bayer accepted a 12-month period for sale and distribution of the existing stocks.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical. In this case, the Agency does not see a need to deviate from these general rules. Unless the Agency receives substantive comments during the comment period that would merit further review of this matter, the Agency intends to permit existing stocks already in the hands of dealers or users to be distributed, sold, or used until they are exhausted, provided that such further sale and use comply with the EPA-approved label and labeling of the affected product.

List of Subjects

Environmental protection, Pesticides and pests.

Dated: June 30, 2003.
Richard P. Keigwin, Jr.,
Acting Director, Special Review and Reregistration Division, Office of Pesticide Programs.

[FR Doc. 03-17509 Filed 7-10-03; 8:45 am]

BILLING CODE 6560-50-S